COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List services to be furnished by nonprofit agencies employing persons who are blind or have other severe disabilities.

EFFECTIVE DATE: September 17, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On June 15 and June 29, 2001, the Committee for Purchase From People Who Are Blind or Severely Disabled published notices (66 FR 32598 and 34612) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are added to the Procurement List:

Services:

Administrative Services

Social Security Administration, Sam Nunn Federal Building, Atlanta, Georgia

Janitorial/Custodial

VA Medical Center—Outbuildings #2, 3, 4, 5, 6, 7, 12, 19 and T2, Louisville, Kentucky

Janitorial/Custodial

U.S. Army Reserve Center, Auburn, Maine

Janitorial/Custodial

U.S. Army Reserve Center, Lewiston, Maine

Janitorial/Custodial

Aberdeen Proving Ground, Building 4600, Aberdeen, Maryland

Janitorial/Custodial

U.S. Department of Agriculture, the Animal and Plant Health Inspection Service, Gulfport, Mississippi

Warehousing

U.S. Army Logistics Management College (ALMC), Fort Lee, Virginia

This action does not affect current contracts awarded prior to the effective date of this addition or options that may be exercised under those contracts.

Sheryl D. Kennerly,
Director, Information Management.

[FR Doc. 01-20812 Filed 8-16-01; 8:45 am]

BILLING CODE 6353-01-P